DEPARTMENT OF COMMERCE

International Trade Administration, North American Free-Trade Agreement (NAFTA), Article 1904 Binational Panel Reviews

AGENCY: NAFTA Secretariat, United States Section, International Trade Administration, Department of Commerce.

ACTION: Notice of decision of panel.

SUMMARY: On January 17, 2006 the binational panel issued its decision in the review of the determination on remand made by the International Trade Commission, respecting Magnesium from Canada Full Sunset Review of AD and CVD Orders, Secretariat File No. USA-CDA-2000-1904-09. The binational panel affirmed in part and remanded in part to the International Trade Commission. Copies of the panel decision are available from the U.S. Section of the NAFTA Secretariat.

FOR FURTHER INFORMATION CONTACT: Caratina L. Alston, United States Secretary, NAFTA Secretariat, Suite 2061, 14th and Constitution Avenue, Washington, DC 20230, (202) 482-5438.

SUPPLEMENTARY INFORMATION: Chapter 19 of the North American Free-Trade Agreement (“Agreement”) establishes a mechanism to replace domestic judicial review of final determinations in antidumping and countervailing duty cases involving imports from a NAFTA country with review by independent binational panels. When a Request for Panel Review is filed, a panel is established to act in place of national courts to review expeditiously the final determination to determine whether it conforms with the antidumping or countervailing duty law of the country that made the determination.

Under Article 1904 of the Agreement, which came into force on January 1, 1994, the Government of the United States, the Government of Canada and the Government of Mexico established Rules of Procedure for Article 1904 Binational Panel Reviews (“Rules”). These Rules were published in the Federal Register on February 23, 1994 (59 FR 8686). The panel review in this matter has been conducted in accordance with these Rules. Panel Decision: The panel affirmed in part and remanded in part the International Trade Commission's determination on remand respecting Magnesium from Canada. The panel remand in part to the Commission and instructed the Commission as follows: Analyze the price, volume and impact of revocation of the countervailing duty order on alloy magnesium to show how the record supports the Commission's conclusions, providing a reasoned explanation based on all of the evidence on the record to support a decision that revocation of the countervailing duty order on imports of alloy magnesium from Canada would be likely to lead to continuation or recurrence of material injury to the domestic alloy magnesium industry within the reasonably foreseeable future due to underselling by Magnola. The Commission must provide further reasoned analysis supported by substantial evidence on the record, including any factual evidence not referred to in its Views on Remand, as to the conclusion that Magnola would enter the market by underselling in order to establish export volumes that would be significant in relation to anticipated demand increases. The Commission is directed to respond to this Order within sixty (60) days of receipt.

Dated: January 17, 2006.
Caratina L. Alston,
U.S. Secretary, NAFTA Secretariat.

[FR Doc. E6-655 Filed 1-20-06; 8:45 am]

BILLING CODE 3510-GT-P